ENVIRONMENTAL PROTECTION AGENCY

[FRL-6843-9]

Notice of Proposed Settlement Trans Circuits, Inc. Superfund Site Lake Park, Palm Beach County, Florida

AGENCY: Environmental Protection Agency.

ACTION: Notice of proposed settlement.

SUMMARY: Under the Comprehensive Environmental Response, Compensation, and Liability Act (CERCLA), the United States Environmental Protection Agency (EPA) proposes to enter into a “Prospective Purchaser Agreement” (PPA) concerning property located at 210 Newman Way in an industrial park in Lake Park, Palm Beach County, Florida. EPA proposes to enter into the PPA with the National Land Company (NLC).

The PPA obligates NLC to cooperate fully with any response action EPA may take on the Property. The PPA resolves NLC's potential liability for the Existing Contamination at the Site which would otherwise result from becoming the owner of the Site. This protection is contingent upon NLC fulfilling its obligations under the PPA.

EPA will consider public comment on the proposed settlement for thirty (30) days. EPA may withdraw from or modify the proposed settlement should public comments disclose facts or considerations which indicate that the proposed settlement is inappropriate, improper, or inadequate.

Copies of the proposed settlement are available from: Ms. Paula V. Batchelor, Waste Management Division, U.S. EPA, Region 4, Atlanta Federal Center, 61 Forsyth Street, S.W., Atlanta, GA 30303-3104.

Written comments may be submitted to Ms. Batchelor at the address noted above within thirty (30) calendar days of the date this notice is published.

Dated: July 18, 2000.
James L. Miller,
Acting Chief, CERCLA Program Services Branch, Waste Management Division.

[FR Doc. 00-19538 Filed 8-1-00; 8:45 am]

BILLING CODE 6560-50-P